OFFICE OF PERSONNEL MANAGEMENT

Submission for Review: Presidential Management Fellows (PMF) Application

AGENCY: U.S. Office of Personnel Management.

ACTION: 30-Day Notice and request for comments.

SUMMARY: The Office of Personnel Management (OPM) offers the general public and other Federal agencies the opportunity to comment on a revised information collection request (ICR) 3206-0082, Presidential Management Fellows (PMF) Application. As required by the Paperwork Reduction Act of 1995 (Pub. L. 104-13, 44 U.S.C. chapter 35), as amended by the Clinger-Cohen Act (Pub. L. 104-106), OPM is soliciting comments for this collection on behalf of the Office of Management and Budget. The information collection was previously published in the Federal Register on June 28, 2012, at Volume 77 FR 38681 allowing for a 60-day public comment period. There were 5 requests for the ICR; 2 requests for the date of the application period; and 1 inquiring about the type of resume that would be accepted. One individual provided specific recommendations for edits to the questions and the way the information is being collected. We appreciate the suggestions and will consider the changes for the next iteration of the application; however, we don't believe the proposed changes would alter the estimated burden of the current application, or significantly improve the quality and clarity of the information collected. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until November 1, 2012. This process is conducted in accordance with 5 CFR 1320.1.

ADDRESSES: A copy of this ICR, with applicable supporting documentation, may be obtained by contacting the Office of Information and Regulatory Affairs, Office of Management and Budget, 725 17th Street NW., Room 10235, Washington, DC 20503, Attention: OPM Desk Officer or sent via electronic mail to oira_submission@omg.eop.gov.

FOR FURTHER INFORMATION CONTACT: A copy of this ICR, with applicable supporting documentation, may be obtained by contacting the Office of Information and Regulatory Affairs, Office of Management and Budget, 725 17th Street NW., Room 10235, Washington, DC 20503, Attention: OPM Desk Officer or sent via electronic mail to oira_submission@omg.eop.gov.

SUPPLEMENTARY INFORMATION: Executive Order 13562, Recruiting and Hiring Students and Recent Graduates, and implementing regulations increased the applicant window of eligibility and removed the school nomination requirement. Students seeking advanced degrees and those who completed an advanced degree within the previous two years will use the application to apply for the Presidential Management Fellows Program. They will no longer be required to have a school nomination. OPM expects this will increase the number of applicants from years past. Information on the PMF Program can be found at www.pmf.gov.

Analysis

Agency: Employee Services, U.S. Office of Personnel Management.

Title: Presidential Management Fellows (PMF) Application.

OMB Number: 3206-0082.

Affected Public: Current graduate students and individuals who obtained an advanced degree within the previous two years.

Number of Respondents: 25,000.

Estimated Time per Respondent: 13 minutes.

Total Burden Hours: 5,417 hours.

U.S. Office of Personnel Management.
John Berry,
Director.

[FR Doc. 2012-24176 Filed 10-1-12; 8:45 am]

BILLING CODE 6325-38-P